ENVIRONMENTAL PROTECTION AGENCY

40 CFR Parts 110, 112, 116, 117, 122, 230, 232, 300, 302, and 401

[FRL-9911-61-OA]

Definition of “Waters of the United States” Under the Clean Water Act; Meeting of the Local Government Advisory Committee

AGENCY: Environmental Protection Agency.

ACTION: Announcement of meeting.

SUMMARY: The Local Government Advisory Committee's Protecting America's Waters Workgroup is seeking input on its Charge from the Environmental Protection Agency (EPA) to give advice and recommendations on a proposed rule to clarify protection under the Clean Water Act for streams and wetlands that form the foundation of the nation's water resources. The LGAC Protecting America's Waters Workgroup will have a series of meetings to hear from local elected and appointed officials at several geographic field locations.

The focus of the workgroup meeting is to hear from local officials on local issues of concern related to Waters of the United States proposed rule published on April 21, 2014 (79 FR 22188). This is an open meeting and state, local and tribal officials are invited to attend. Individuals or organizations wishing to address the workgroup meeting will be allowed a maximum of five minutes to present their point of view.

DATES: The first of the meetings will be held on Wednesday, May 28, 2014, in St. Paul, MN. The Workgroup will hear comments from state, local and tribal officials and the public between 11:20 a.m.-12:25 p.m. on Wednesday, May 28, 2014.

ADDRESSES: The LGAC Protecting America's Waters Workgroup meeting will be held at the City Hall, 15 Kellogg Boulevard West, Room 40 A & B, St. Paul, Minnesota 55102. The Workgroup's meeting summary will be available after the meeting online at www.epa.gov/ocir/scas and can be obtained by written request to the DFO. Written comments may be submitted electronically to Zinsmeister.Emma@epa.gov or provided to the designated EPA staff on comment cards. Please contact the Designated Federal Officer (DFO) at the number listed below to schedule comment time. Time will be allotted on a first-come, first-served basis. If you are interested in attending subsequent meetings of the workgroup, details will be posted when they are available at: http://www.epa.gov/ocirpage/scas_lgac/lgac_index.htm.

You should be aware that comments submitted to the workgroup are solely for the workgroup's consideration. If you want to submit comments directly to the EPA on the proposed rule you should go to: http://www.regulations.gov Docket ID No. EPA-HQ-OW-2011-0880. Follow the instructions for submitting comments or email ow-docket@epa.gov. Include EPA-HQ-OW-2011-0880 in the subject line of the message.

FOR FURTHER INFORMATION CONTACT: Emma Zinsmeister, Protecting America's Waters Workgroup at (202) 343-9043 or Fran Eargle, the Designated Federal Officer for the Local Government Advisory Committee (LGAC) at (202) 564-3115 or email at Eargle.frances@epa.gov.

SUPPLEMENTARY INFORMATION: For Information on access or services for individuals with disabilities, please contact Frances Eargle at (202) 564-3115 or eargle.frances@epa.gov. To request accommodation of a disability, please request 2 days prior to the meeting, to give EPA as much time as possible to process your request.

Dated: May 19, 2014.
Frances Eargle,
Designated Federal Officer, Local Government Advisory Committee.

[FR Doc. 2014-12463 Filed 5-27-14; 11:15 am]

BILLING CODE 6560-50-P